DEPARTMENT OF AGRICULTURE

Forest Service

Notice of New Fee Sites; Federal Lands Recreation Enhancement Act, (Title VIII, Pub. L. 108-447)

AGENCY: Northern Region, USDA Forest Service.

ACTION: Notice of new fee sites.

SUMMARY: Pending additional public comments received through the Recreation Site Facility Master Planning process and additional feedback received through the BLM Resource Advisory Council (BLM RAC) review and recommendation process, the following National Forests and National Grasslands in the Northern Region propose to begin charging fees at the following sites: The Beaverhead-Deerlodge National Forest will begin charging fees for camping at Steel Creek Campground ($7/night), Seymour Campground ($7/night), and Dinner Station Campground ($8/night). The Clearwater National Forest will begin charging fees for the overnight rental of Gold Meadow Cabin ($40/night), Kelly Creek Cabin ($40/night), and Liz Creek Cabin ($40/night). The Dakota Prairie Grasslands will begin charging fees for overnight camping at the Hankinson Hills Campground ($6/night). The Flathead National Forest will begin charging fees for the overnight rental of Old Condon Ranger House ($50/night), Silvertip Cabin ($50/night), and Swan Lake Guard Station ($50/night). The Gallatin National Forest will begin charging fees for the overnight rental of Maxey Cabin ($40/night). The Helena National Forest will begin charging fees for the overnight rental of Moose Creek Cabin ($50/night). The Idaho Panhandle National Forest will begin charging fees for the overnight rental of Shoshone Park Cabin ($65/night), and Avery Cabin ($65/night). The Lewis and Clark National Forest will begin charging fees for the overnight rental of Monument Peak Lookout ($55/night), and Kenck Cabin ($45/night). The Lolo National Forest will begin charging fees for the overnight rental of Morgan Case Homestead Cabin Rental ($80/night), the Double Arrow Lookout Cabin Rental ($40/night), the Lake Inez Group Camping site ($25/night), and the Lakeside Campground (Lakeside Campground $10/night and Lakeside Group Camping Site $25/night). The Nex Perce National Forest will begin charging fees for the overnight rental of Adams Ranger House ($40/night), Lookout Butte Lookout ($40/night), and Meadow Creek Cabin ($40/night). Rentals of other cabins and lookouts throughout the Northern Region have shown that publics appreciate and enjoy the availability of historic rental cabins and lookouts as well as campgrounds and group camping sites. Funds from the cabin rentals, campground and group camping sites will be used for the continued operation and maintenance of recreation sites.

DATES: Pending additional public comment regarding these proposed fees, the cabins, lookouts, campgrounds and group camping sites will become available September 1, 2007.

ADDRESSES: Comments may be sent directly to the respective Forest or Grassland: Forest Supervisor, Beaverhead-Deerlodge National Forest, 420 Barrett Street, Dillon, MT 59725-3572; Forest Supervisor, Clearwater National Forest, 12730 Highway 12, Orofino, ID 83544; Grasslands Supervisor, Dakota Prairie Grasslands, 240 W. Century Avenue, Bismark, ND 58503; Forest Supervisor, Flathead National Forest, 1935 Third Avenue East, Kalispell, MT 59901; Forest Supervisor, Gallatin National Forest, 10 East Babcock Avenue, Bozeman, MT 59715; Forest Supervisor, Helena National Forest, 2883 Skyway Drive, Helena, MT 59602; Forest Supervisor, Idaho Panhandle National Forest, 3815 Schreiber Way, Coeur d'Alene, ID 83815; Forest Supervisor, Lewis & Clark National Forest, 1101 15th Street North, Great Falls, MT 59403; Forest Supervisor, Lolo National Forest, Building 24, Fort Missoula, Missoula, MT 59804; Forest Supervisor, Nez Perce National Forest, 1005 Highway 13, Grangeville, ID 83530.

FOR FURTHER INFORMATION CONTACT: Joni Packard, Northern Region Recreation Fee Program Coordinator, 406-329-3586.

SUPPLEMENTARY INFORMATION: The Federal Recreation Lands Enhancement Act (Title VII, Pub. L. 108-447) directed the Secretary of Agriculture to publish a six month advance notice in the Federal Register whenever new recreation fee areas are established.

The intent of this notice is to give publics an opportunity to comment if they have concerns or questions about new fees.

The Northern Region currently offers over 140 other cabin rentals, including guard stations and fire lookouts and over 226 fee campgrounds. Many sites are often fully booked throughout their rental season. Local public comments have shown that people desire having these sorts of recreation experiences on these National Forests and Grasslands. The fees proposed are based on local comparable markets and are both reasonable and acceptable for these sorts of unique recreation experience.

People wanting to rent these cabins, lookouts, campgrounds and group camping sites will need to do so through the National Recreation Reservation Service, at http://www.recreation.gov or by calling 1-877-444-6777. The National Recreation Reservation Service charges a $9 fee for reservations.

Dated: March 9, 2007.
Kathleen McAllister,
Acting Regional Forester, Northern Region.

[FR Doc. 07-1312 Filed 3-16-07; 8:45 am]

BILLING CODE 3410-11-M